DEPARTMENT OF THE INTERIOR

Bureau of Land Management

[LLAZ920000.L13400000.PQ0000.20X; AZA-09973]

Notice of Application for Withdrawal Extension; Notice of Application for Withdrawal Addition; Notice of Segregation; and, Opportunity for Public Meeting for the Barry M. Goldwater Range, Arizona

AGENCY: Bureau of Land Management, Interior.

ACTION: Notice of withdrawal applications.

SUMMARY: The United States Department of the Air Force (USAF) and the United States Department of the Navy (USN) have filed applications to extend and expand existing Federal-land withdrawals in Maricopa, Pima, and Yuma counties, Arizona. They have requested an extension of the existing 1,743,426.42-acre withdrawal, along with the withdrawal of an additional 2,366 acres of public lands at Gila Bend airfield from all forms of appropriation under the public land laws, including the mining laws, the mineral leasing laws, and the geothermal leasing laws, subject to valid existing rights for an indefinite period. The decision about these applications will be made by Congress.

DATES: Comments on the withdrawal applications, including their environmental consequences, should be received on or before July 20, 2020. In addition, the USAF, the USN, and the Bureau of Land Management (BLM) will host a public meeting addressing the withdrawal applications and the associated environmental review process. The date and venue for the public meeting is listed in the SUPPLEMENTARY INFORMATION section.

ADDRESSES: Comments pertaining to the USAF and USN withdrawal extension proposal or the USAF withdrawal expansion proposal should be sent to the BLM, Arizona State Office; Attention: Eddie Arreola, One North Central Avenue, Suite 800, Phoenix, AZ 85004. Comments pertaining to this notice may be submitted by any of the following methods:

• Email: BLM_AZ_AZSO_BMGRWithdrawal@blm.gov.

• Fax: 602-417-9454.

• Mail: BLM Arizona State Office, Attn: Eddie Arreola, One North Central Avenue, Suite 800, Phoenix, AZ 85004.

Copies of the legal descriptions and the maps depicting the lands that are the subject of the USAF and USN's application are available for public inspection at the following offices: State Director, BLM Arizona State Office, One North Central Avenue, Suite 800, Phoenix, Arizona 85004; District Manager, BLM Phoenix District Office, 21605 North 7th Avenue, Phoenix, Arizona 85027; and Field Office Manager, BLM Yuma Field Office, 7341 E 30th Street, Yuma, Arizona 85365.

FOR FURTHER INFORMATION CONTACT: Eddie Arreola, Supervisory Project Manager, at 602-417-9505 or email at earreola@blm.gov or at the above addresses. Information on the proposed action (withdrawal extension and addition), including the environmental review process, can be viewed at the project's website at www.barry-m-goldwater-leis.com. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The United States Department of the Air Force (USAF) and the United States Department of the Navy (USN), acting on behalf of the United States Marine Corps, have filed an application to extend the current withdrawal of 1,743,426.42 acres of Federal lands from all forms of appropriation under the public land laws, including the mining laws, the mineral leasing laws, and the geothermal leasing laws, subject to valid existing rights, for military use of the Barry M. Goldwater Range (BMGR) in Maricopa, Pima, and Yuma counties, Arizona for an indefinite period (withdrawal extension). In accordance with the Engle Act (43 U.S.C. 155-158), because it exceeds 5000 acres, this withdrawal extension requires an Act of Congress. The USAF has also requested the withdrawal of an additional 2,366 acres of public lands at Gila Bend airfield from all forms of appropriation under the public land laws, including the mining laws, the mineral leasing laws, and the geothermal leasing laws, subject to valid existing rights for an indefinite period (withdrawal expansion). These additional acres are adjacent and contiguous to the existing withdrawal, and therefore, under the Engle Act (43 U.S.C. 155-158), their withdrawal, too, requires an Act of Congress. This notice segregates the 2,366 acres for 2 years from all forms of appropriation under the public land laws, including the mining laws, the mineral leasing laws, and the geothermal leasing laws; initiates an opportunity for the public to comment on the proposed withdrawal extension and withdrawal expansion; and announces the date, time, and location of public meetings on both the extension and the expansion.

The BMGR was withdrawn under the Military Land Withdrawal Act (MLWA) of 1999 (Pub. L. 106-65). The existing withdrawal expires on October 4, 2024. In accordance with MLWA, the USAF and USN notified Congress of a continuing military need for the BMGR withdrawn lands. The USAF and USN are jointly preparing a Legislative Environmental Impact Statement (LEIS). The USAF and USN anticipate Federal Register publication of a separate Notice of Intent to prepare the LEIS.

As required by section 204(b)(1) of the Federal Land Policy and Management Act of 1976, 43 U.S.C. 1714(b)(1), and the BLM regulations at 43 CFR part 2300, the BLM is publishing the notice of the USAF and USN application. While the BLM and the Department of the Interior assist the USAF and USN with the processing of withdrawal applications, and the Secretary of the Interior makes a recommendation to Congress on the proposed withdrawals, it will be Congress that will make the final decision regarding whether to extend the existing BMGR withdrawal and/or expand it to add 2,366 acres at Gila Bend Airfield.

The USAF and USN are requesting that Congress extend the BMGR land withdrawal for an indefinite period due to the anticipated continuation of national defense requirements.

Extension Request: The application requests an extension of the existing BMGR withdrawal of 1,650,246 acres of Federal land in accordance with the Engle Act, (43 U.S.C. 155-158).

The November 30, 2001, Federal Register publication (66 FR 59813) identified 1,650,246 acres of public lands and 83,675 acres of former State and private non-contiguous parcels acquired by the military, for a total withdrawal of 1,733,921 acres.

Since 2001, the BLM has surveyed the western portion of the withdrawal used by the USN and has produced a more accurate acreage than was originally provided in the 2001 Federal Register publication. The total calculated acres of Federal interest and acquired lands is 1,743,426.42 acres, of which 1,659,364.92 acres are public lands and 84,061.51 acres are acquired lands. There is a difference of 9,505.89 acres between the 2001 acreage and the resurveyed acreage, even though there is no change in the existing boundary and the legal description remains the same, as noted below. The difference in acreage is due to an accumulation of fractions of acres within the boundary of the existing withdrawal due to more recent and accurate geographic information system mapping.

Legal Description of Withdrawal Extension

Gila and Salt River Meridian, Arizona

T. 8 S., R. 1 W.,

Sec. 30, lots 3 and 4 and E½SW¼;

Sec. 31;

Sec. 32, NW¼, SW¼, and SE¼;

Sec. 33, SW¼.

T. 9 S., R. 1 W.,

Sec. 3, SW¼ and SE¼;

Secs. 4 thru 11;

Sec. 12, SW¼;

Secs. 13 thru 36.

T. 8 S., R. 2 W.,

Sec. 7, lots 1 thru 4, E½NW¼, E½SW¼, and SE¼;

Sec. 8, SW¼;

Sec. 16, SW¼ and SE¼;

Secs. 17 thru 22;

Sec. 23, SW¼ and SE¼;

Sec. 25, NW¼, SW¼, and SE¼;

Secs. 26 thru 36.

T. 9 S., R. 2 W.

T. 7 S., R. 3 W.,

Sec. 19, lots 3 and 4 and E½SW¼;

Sec. 28, SW¼;

Sec. 29, NW¼, SW¼, and SE¼;

Secs. 30 thru 33;

Sec. 34, SW¼ and SE¼.

T. 8 S., R. 3 W.,

Sec. 1, SW¼;

Secs. 2 thru 36.

T. 9 S., R. 3 W.

T. 10 S., R. 3 W.,

Secs. 4 thru 9;

Secs. 16 thru 21;

Secs. 28 thru 33.

T. 7 S., R. 4 W.,

Sec. 14, SW¼ and SE¼;

Secs. 15 thru 23;

Sec. 24, NW¼, SW¼, and SE¼;

Secs. 25 thru 36.

Tps. 8, 9, and 10 S., R. 4 W.

T. 6 S., R. 5 W.,

Sec. 13;

Sec. 14, NE¼, S½NW¼, SW¼, and SE¼;

Secs. 15 thru 17;

Sec. 18, lots 3 and 4, E½NE¼, SW¼NE¼, SE¼NW¼, E½SW¼, and SE¼;

Secs. 19 thru 36.

Tps. 7 thru 10 S., R. 5 W.

T. 6 S., R. 6 W.,

Sec. 13, E½SE¼, SW¼SE¼, and SE¼SW¼;

Sec. 22, E½SE¼, SW¼SE¼, and S½SW¼;

Sec. 23, E½NE¼, SW¼NE¼, SE¼NW¼, SW¼, and SE¼;

Secs. 24 thru 27;

Secs. 34 thru 36.

T. 7 S., R. 6 W.,

Secs. 1 thru 3;

Secs. 10 thru 36.

Tps. 8 thru 10 S., R. 6 W.

T. 11 S., R. 6 W.,

Secs. 5 thru 8;

Secs. 4, 9, 10, and 15, all those portions lying west of the westerly boundaries of the State Route 85 (100 feet) and detention basin (700 feet) rights-of-way, as more particularly identified and described on the official BLM plat maps;

Secs. 16 thru 21;

Secs. 22 and 27, all those portions lying west of the westerly boundary of the State Route 85 (100 feet) right-of-way, as more particularly identified and described on the official BLM plat maps;

Secs. 28 thru 30.

T. 7 S., R. 7 W.,

Secs. 13 thru 36.

Tps. 8 thru 10 S., R. 7W.

T. 7 S., R. 8 W.,

Secs. 13 thru 15;

Sec. 16, SW¼ and SE¼;

Sec. 17, SW¼ and SE¼;

Sec. 18, lots 3 and 4, E½SW¼, and SE¼;

Secs. 19 thru 36.

Tps. 8 and 9 S., R. 8 W., unsurveyed.

T. 10 S., R. 8 W.

T. 7 S., R. 9 W.

Sec. 13, SW¼ and SE¼;

Sec. 14, SW¼ and SE¼;

Secs. 19 thru 36.

Tps. 8 thru 11 S., R. 9 W., unsurveyed.

Tps. 8 and 9 S., R. 10 W.

Tps. 10 and 11 S., R. 10 W., unsurveyed.

Tps. 8 thru 10 S., R. 11 W.

T. 11 S., R. 11 W., unsurveyed.

T. 8 and 9 S., R. 11 ½ W and 12 W.

T. 10 S., R. 12 W.

T. 11 S., R. 12 W., unsurveyed.

T. 8 S., R. 13 W.,

Secs. 1 thru 3;

Secs. 4 thru 7, all of those portions lying south of the southerly boundary of the railroad right-of-way, as more particularly identified and described on the official BLM plat maps.

Secs. 8 thru 36.

Tps. 9 and 10 S., R. 13 W.

T. 11 S., R. 13 W., unsurveyed.

T. 8 S., R. 14 W.,

Secs. 11, 12, 14, 15, 16, and 21, all those portions lying south of the southerly boundary of the railroad right-of-way, as more particularly identified and described on the official BLM plat maps;

Sec. 20, all those portions lying south of the southerly boundaries of the railroad right-of-way and the Interstate Highway 8 right-of-way, as more particularly identified and described on the official BLM plat maps;

Sec. 13 and 22 thru 36;

Tps. 9 and 10 S., R. 14 W.

T. 11 S., R. 14 W., unsurveyed.

T. 8 S. R. 15 W.,

Secs. 33 thru 36.

Tps. 9 and 10 S., R. 15W.

T. 11 S., R. 15 W., unsurveyed.

T. 9 S., R. 16 W.,

Secs. 1 and 2;

Secs. 7 thru 36.

T. 10 S., R. 16 W.

T. 11 S., R. 16 W., unsurveyed.

T. 9 S., R. 17 W., partially surveyed.

Secs. 12 thru 14;

Secs. 15 and 16, partially surveyed;

Sec. 17, SW¼ and SE¼;

Secs. 19 thru 36.

T. 10 S., R. 17 W.,

Tps. 11 thru 14 S., R. 17 W., unsurveyed.

T. 9 S., R. 18 W.,

Sec. 21, SE¼;

Sec. 22, SW¼ and SE¼;

Secs. 23 thru 36.

T. 10 S., R. 18 W.

Tps. 11 thru 13 S., R. 18 W., unsurveyed.

T. 9 S., R. 19 W.,

Secs. 25 thru 36.

Tps. 10 thru 13 S., R. 19 W., unsurveyed.

T. 9 S., R. 20 W.,

Secs. 25 thru 36.

Tps. 10 thru 12 S., R. 20 W., unsurveyed.

T. 9 S., R. 21 W.,

Secs. 25 thru 36.

Tps. 10 thru 12 S., R. 21 W.

T. 9 S., R. 22 W.,

Secs. 25 thru 28;

Sec. 29, NE¼, E½NW¼, SW¼, and SE¼;

Secs. 32 thru 36.

T. 10 S., R. 22 W.,

Secs. 1 thru 5;

Sec. 6, lots 1 and 2, S½NE¼, and SE¼;

Secs. 7 thru 36.

Tps. 11 and 12 S., R. 22 W.

The areas described aggregate 1,743,426.42 acres.

Addition Request: In accordance with the Engle Act, (43 U.S.C. 155-158), the USAF filed an application requesting withdrawal and reservation of 2,366 acres of additional Federal lands for military training exercises involving the BMGR, Maricopa County, Arizona (the “Addition area”). The USAF requests that the land be withdrawn from all forms of appropriation under the public land laws, including the mining laws, the mineral leasing laws, and the geothermal leasing laws, subject to valid existing rights, and reserved for use of the USAF for testing and training, consistent with the purpose of the BMGR.

Legal Description of Addition Lands

Gila and Salt River Meridian, Arizona

T. 6 S. R. 4 W.,

Sec. 19, lots 3 and 4, and E½SW¼;

Sec. 31; Lots 1 and 2, and E½NW¼.

T. 7 S., R. 4 W.,

Sec. 5, SW¼ SW¼ SW¼;

Secs. 6, Lots 3 thru 7, SE¼NW¼, E½SW¼, and SE¼;

Secs. 7 and 8;

Sec. 9, SW¼ and SE¼.

The areas described aggregate 2,366 acres.

In the event any non-federally owned lands within the requested withdrawal area return or pass to Federal ownership in the future, they would be subject to the terms and conditions described above.

The purpose of the requested withdrawal extension and expansion is to withdraw and reserve the lands for use by the USAF and USN for military testing and training.

For a period until July 20, 2020, all persons who wish to submit comments, suggestions, or objections in connection with the withdrawal application may present their comments in writing to the persons and offices listed in the ADDRESSES section above. All comments received will be considered before the Secretary of the Interior makes any recommendation for withdrawal to Congress.

As a direct result of the National Emergency declared by the President on Friday, March 13, 2020, in response to the coronavirus (COVID-19) pandemic, no in-person public meeting will be held. Instead, a virtual (online) public meeting will be conducted on Thursday, May 26 at 5:00 p.m. and Thursday, May 28 at 3:00 p.m. via a virtual meeting. The BLM will publish the date and instructions on how to access the online public meeting in the Arizona Daily Star (Tucson), Ajo Copper News, Gila Bend Sun, Arizona Republic (Phoenix Metropolitan area), Casa Grande Dispatch, The Glendale Star, Yuma Sun, Baja El Sol (Yuma), La Voz (Phoenix), and The Runner (Tohono O'odham Nation) newspapers for a minimum of 15 days prior to the meetings.

Comments, including names and street addresses of respondents, will be available for public review at the project website noted above. Before including your address, phone number, email address, or other personal identifying information in your comment, you should be aware that your entire comment, including your personal identifying information, may be publicly available at any time. While you can ask us in your comment to withhold your personal identifying information from public review, we cannot guarantee that we will be able to do so.

Subject to valid existing rights, the 2366 acres of Federal lands that are the subject of the USAF application for addition of the withdrawal and reservation for USAF military use, and that are described in this notice, will be segregated from all forms of appropriation under the public land laws, including the mining laws, the mineral leasing laws, and the geothermal leasing laws. The segregation will continue for a period of 2 years from date of publication in the Federal Register, unless the applications/proposal are denied or cancelled, or the withdrawal is approved prior to that date. Licenses, permits, cooperative agreements, or discretionary land use authorizations may be allowed during the period of segregation, but only with the approval of the authorized officer and, as appropriate, with the concurrence of the USAF.

The applications for withdrawal and reservation will be processed in accordance with the regulations at 43 CFR part 2300.

(Authority: 43 U.S.C. 1714(b)(1) and 43 CFR 2300)

Raymond Suazo,
Arizona State Director.

[FR Doc. 2020-08298 Filed 4-17-20; 8:45 am]

BILLING CODE 4310-32-P